DEPARTMENT OF ENERGY

Federal Energy Regulatory Commission

[Project No. 2110-031]

Consolidated Water Power Company; Notice of Application Accepted for Filing and Soliciting Comments, Motions To Intervene, and Protests

Take notice that the following hydroelectric application has been filed with the Commission and is available for public inspection:

a. Application Type: Change in Land Rights.

b. Project No: 2110-031.

c. Date Filed: January 29, 2014.

d. Applicant: Consolidated Water Power Company.

e. Name of Project: Stevens Point Hydroelectric Project.

f. Location: Wisconsin River in Portage County, Wisconsin.

g. Filed Pursuant to: Federal Power Act, 16 U.S.C. 791a-825r.

h. Applicant Contact: Thomas J. Witt, 610 High Street P.O. Box 8050, Wisconsin Rapids, WI 54495-8050, (715) 422-3927.

i. FERC Contact: Jon Cofrancesco at (202) 502-8951, or email: jon.cofrancesco@ferc.gov.

j. Deadline for filing comments, motions to intervene, and protests: April 14, 2014.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Secretary, Federal Energy Regulatory Commission, 888 First Street NE., Washington, DC 20426. Please include the project number (P-2110-031) on any comments, motions, or recommendations filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Consolidated Water Power Company (licensee) requests Commission approval to transfer certain interests in licensee-owned lands within the project boundary to New Page Wisconsin System, Inc. (New Page) to memorialize historic uses of the property by a paper company, currently owned by New Page, for continued use of the property by existing paper mill facilities and operations. The application would separate and more precisely delineate the licensee's hydropower and utility assets from New Page's paper mill assets. The proposed change in land rights does not involve any changes in project facilities, operations, or project boundaries. In addition to the proposed change in land rights for the existing uses, the licensee proposes to grant an easement to New Page for a single, future water intake structure. This new proposed use will be considered by the Commission under a separate proceeding.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field (P-2110) to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: March 14, 2014.
Kimberly D. Bose,
Secretary.

[FR Doc. 2014-06314 Filed 3-21-14; 8:45 am]

BILLING CODE 6717-01-P